INTERNATIONAL TRADE COMMISSION

[Investigation No. 337-TA-996]

Certain Quartz Slabs and Portions Thereof; Commission Determination Not To Review Initial Determinations Terminating the Investigation as to All Respondents; Termination of the Investigation

AGENCY: U.S. International Trade Commission.

ACTION: Notice.

SUMMARY: Notice is hereby given that the U.S. International Trade Commission has determined not to review (1) an October 12, 2016, initial determination (“Order 20”) granting an unopposed joint motion to terminate the investigation as to one respondent based on a settlement agreement and (2) an October 13, 2016, initial determination (“Order 21”) terminating the investigation as to the last respondent based on complainant's withdrawal of certain allegations in the complaint. This investigation is terminated.

FOR FURTHER INFORMATION CONTACT: Ron Traud, Office of the General Counsel, U.S. International Trade Commission, 500 E Street SW., Washington, DC 20436, telephone (202) 205-3427. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (https://www.usitc.gov). The public record for this investigation may be viewed on the Commission's electronic docket (EDIS) at https://edis.usitc.gov. Hearing-impaired persons are advised that information on this matter can be obtained by contacting the Commission's TDD terminal on 202-205-1810.

SUPPLEMENTARY INFORMATION: The Commission instituted this investigation on May 16, 2016, based on a complaint filed by Cambria Company LLC (“Cambria”) of Belle Plaine, Minnesota. 81 FR 30342 (May 16, 2016). The complaint alleges violations of Section 337 of the Tariff Act of 1930, as amended, 19 U.S.C. 1337, based upon the importation into the United States, the sale for importation, and the sale within the United States after importation of certain quartz slabs and portions thereof by reason of infringement of the claims of U.S. Patent Nos. D737,058; D712,670; D713,154; D737,576; D737,577; and D738,630. Id. The Notice of Investigation names as respondents Wilsonart LLC (“Wilsonart”) of Denver, Colorado and Dorado Soapstone LLC (“Dorado”) of Temple, Texas. Id. The Office of Unfair Import Investigations (“OUII”) was also named as a party. Id.

On September 14, 2016, the presiding administrative law judge (“ALJ”) issued an initial determination terminating the investigation as to U.S. Patent No. D737,058. Order 15. On October 13, 2016, the Commission determined not to review that initial determination. Notice of Commission Determination Not to Review an ID Terminating the Investigation as to U.S. Design Patent No. D737,058.

On September 28, 2016, Cambria and Wilsonart jointly moved to terminate the investigation as to Wilsonart based on a settlement agreement. OUII filed a response supporting the motion. Dorado did not oppose the motion. On October 12, 2016, the ALJ issued Order 20, an initial determination granting the motion. The ALJ found that the joint motion complied with the Commission's rules for termination and that consideration of the public interest factors pursuant to 19 CFR 210.50(b)(2) did not prevent termination as to Wilsonart. No party filed a petition seeking review of that initial determination.

On October 6, 2016, Cambria moved to terminate the investigation as to Dorado based on Cambria's withdrawal of certain allegations in the complaint. OUII filed a response supporting the motion. OUII Resp. at 1. Dorado did not oppose the motion. Dorado Resp. at 1. On October 13, 2016, the ALJ issued Order 21, an initial determination granting the motion. No party filed a petition seeking review of that initial determination.

The Commission has determined not to review Orders 20 or 21. This investigation is terminated.

The authority for the Commission's determination is contained in Section 337 of the Tariff Act of 1930, as amended (19 U.S.C. 1337), and in part 210 of the Commission's Rules of Practice and Procedure (19 CFR part 210).

By order of the Commission.
Issued: November 3, 2016.
Lisa R. Barton,
Secretary to the Commission.

[FR Doc. 2016-26964 Filed 11-7-16; 8:45 am]

BILLING CODE 7020-02-P